DEPARTMENT OF HOMELAND SECURITY

Coast Guard

[USCG-2004-19421]

Collection of Information Under Review by Office of Management and Budget (OMB): OMB Control Number 1625-0106

AGENCY: Coast Guard, DHS.

ACTION: Request for comments.

SUMMARY: In compliance with the Paperwork Reduction Act of 1995, the Coast Guard intends to seek the approval of OMB for the renewal of an Information Collection Request (ICR), 1625-0106, Unauthorized Entry into Cuban Territorial Waters. Before submitting this ICR to OMB, the Coast Guard is inviting your comments.

DATES: Comments must reach the Coast Guard on or before December 27, 2004.

ADDRESSES: To make sure that your comments and related material do not enter the docket (USCG-2004-19421) more than once, please submit them by only one of the following means:

(1) By mail to the Docket Management Facility, U.S. Department of Transportation (DOT), Room PL-401, 400 Seventh Street, SW., Washington, DC 20590-0001. Caution: Because of recent delays in the delivery of mail to Federal facilities, your comments may reach the Facility more quickly if you choose one of the other means described below.

(2) By delivery to Room PL-401 on the Plaza level of the Nassif Building, 400 Seventh Street, SW., Washington, DC, between 9 a.m. and 5 p.m., Monday through Friday, except Federal holidays. The telephone number is (202) 366-9329.

(3) By fax to the Docket Management Facility at (202) 493-2251.

(4) Electronically through the Web Site for the Docket Management System at http://dms.dot.gov.

The Docket Management Facility maintains the public docket for this notice. Comments and material received from the public, as well as documents mentioned in this notice as being available in the docket, will become part of this docket and will be available for inspection or copying at Room PL-401 on the Plaza level of the Nassif Building, 400 Seventh Street, SW., Washington, DC, between 9 a.m. and 5 p.m., Monday through Friday, except Federal holidays. You may also find this docket on the Internet at http://dms.dot.gov.

Copies of the complete ICR are available through this docket on the Internet at http://dms.dot.gov, and also from Commandant (CG-611), U.S. Coast Guard Headquarters, Room 6106 (Attn: Mr. Arthur Requina), 2100 Second Street, SW., Washington, DC 20593-0001. The telephone number is (202) 267-2326.

FOR FURTHER INFORMATION CONTACT: Mr. Arthur Requina, Office of Information Management, (202) 267-2326, for questions on these documents; or Ms. Andrea M. Jenkins, Program Manager, Docket Operations, (202) 366-0271, for questions on the docket.

SUPPLEMENTARY INFORMATION: Public participation and request for comments: We encourage you to participate in this request for comments by submitting comments and related materials. We will post all comments received, without change, to http://dms.dot.gov, and they will include any personal information you have provided. We have an agreement with DOT to use their Docket Management Facility. Please see the paragraph on DOT's “Privacy Act Policy” below.

Submitting comments: If you submit a comment, please include your name and address, identify the docket number for this request for comment [USCG-2004-19421], indicate the specific section of this document or the ICR to which each comment applies, and give the reason for each comment. You may submit your comments and material by electronic means, mail, fax, or delivery to the Docket Management Facility at the address under ADDRESSES; but please submit them by only one means. If you submit them by mail or delivery, submit them in an unbound format, no larger than 8 ½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in Room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request:

Title: Unauthorized entry into Cuban territorial waters (Formerly, “Unauthorized departure of U.S. vessels and entry into Cuban territorial waters”).

OMB Control Number: 1625-0106.

Type of Request: Extension of currently approved collection.

Affected Public: Certain individuals.

Form: None.

Abstract: The President by proclamation and the Secretary of Homeland Security by order have directed and authorized the U.S. Coast Guard to regulate the anchorage and movement of certain U.S vessels, and vessels without nationality, located within the territorial waters of the United States, that thereafter enter Cuban territorial waters. The Coast Guard has issued a final rule (69 FR 41367, July 8, 2004) that requires all U.S. registered vessels, and vessels without nationality, less than 100 meters in length, to apply for and receive a permit to enter Cuban territorial waters. This requirement is necessary to preclude such vessels from departing U.S. waters and thereafter entering Cuban waters, unless such vessels hold licenses from other government agencies that allow them to engage in exports to, and transactions with Cuba. The information is collected to regulate departure of U.S. vessels from U.S. territorial waters and entry thereafter into Cuban territorial waters. The need to regulate this vessel traffic supports ongoing efforts to enforce the Cuban embargo, which is designed to bring about an end to the current government and a peaceful transition to democracy. Accordingly, only applicants that demonstrate prior U.S. government approval for exports to and transactions with Cuba may be issued a Coast Guard permit.

Burden Estimate: The estimated burden is 43.0 hours a year.

Dated: October 21, 2004.
Ronald T. Hewitt,
Assistant Commandant for C4 and Information Technology.

[FR Doc. 04-23964 Filed 10-25-04; 8:45 am]

BILLING CODE 4910-15-P